DEPARTMENT OF HOMELAND SECURITY

National Protection and Programs Directorate; Submission for Review: Integrated Common Analytical Viewer: GIS System Survey 1670-NEW

AGENCY: National Protection and Programs Directorate, Office of Infrastructure Protection, DHS.

ACTION: 30-Day Notice and request for comments.

SUMMARY: The Department of Homeland Security (DHS) invites the general public and other federal agencies the opportunity to comment on new information collection request 1670-NEW, Integrated Common Analytical Viewer: GIS System Survey. As required by the Paperwork Reduction Act of 1995, (Pub. L. 104-13, 44 U.S.C. chapter 35) as amended by the Clinger-Cohen Act (Pub. L. 104-106), DHS is soliciting comments for this collection. The information collection was previously published in the Federal Register on March 28, 2008 at 73 FR 16696 allowing for a 60-day public comment period. No comments were received on this existing information collection. The purpose of this notice is to allow an additional 30 days for public comments.

DATES: Comments are encouraged and will be accepted until July 3, 2008. This process is conducted in accordance with 5 CFR 1320.1.

ADDRESSES: Interested persons are invited to submit written comments on the proposed information collection to the Office of Information and Regulatory Affairs, Office of Management Budget, 725 17th Street, NW., Washington, DC 20503, Attention: Desk Officer for National Protection and Programs Directorate, DHS or sent via electronic mail to oira_submission@omb.eop.gov or faxed to (202) 395-6974.

FOR FURTHER INFORMATION CONTACT: A copy of this ICR, with applicable supporting documentation, may be obtained by contacting the Office of Information and Regulatory Affairs, Office of Management Budget, 725 17th Street, NW., Washington, DC 20503, Attention: Desk Officer for National Protection and Programs Directorate, DHS or via electronic mail to oira_submission@omb.eop.gov.

SUPPLEMENTARY INFORMATION: The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Programs Directorate, Infrastructure Protection.

Title: Integrated Common Analytical Viewer: GIS System Survey.

OMB Number: 1670-NEW.

Frequency: Once.

Affected Public: Federal, State, and local government employees and associated government contractors.

Number of Respondents: 200 per year.

Estimated Time per Respondent: 10 minutes.

Total Burden Hours: 42 hours.

Total Burden Cost (capital/startup): $1,000.00.

Total Burden Cost (operating/maintaining): $1,250.00 annually (This is a shared cost which will diminish as other surveys use the system.)

Description: The Integrated Common Analytical Viewer (iCAV) Program Management Office (PMO) uses the iCAV customer survey to determine levels of customers' satisfaction with the iCAV training experience. The survey supports data-based decision-making because it evaluates quantitative and qualitative data to identify improvements and identify significant issues based on customers' experience. Obtaining current fact-based actionable data about training and tool features allows the program to recalibrate its resources to address new or emerging issues.

Dated: May 27, 2008.
Matt Coose,
Acting Chief Information Officer, National Protection and Programs Directorate, Department of Homeland Security.

[FR Doc. E8-12277 Filed 6-2-08; 8:45 am]

BILLING CODE 4410-10-P